DEPARTMENT OF HEALTH AND HUMAN SERVICES

Agency Information Collection Request; 60-Day Public Comment Request

AGENCY: Office of the Secretary, HHS.

In compliance with the requirement of section 3506(c)(2)(A) of the Paperwork Reduction Act of 1995, the Office of the Secretary (OS), Department of Health and Human Services, is publishing the following summary of a proposed information collection request for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, to Ed.Calimag@hhs.gov, or call the Reports Clearance Office on (202) 690-7569. Written comments and recommendations for the proposed information collections must be directed to the Grants.gov Paperwork Clearance Officer at the above e-mail address within 60-days.

Proposed Project: SF-424 Research and Related Form-Extension—OMB No. 4040-0001—Grants.gov.

Abstract The SF-424 Research and Related form (R&R) is an OMB approved collection (4040-0001). We propose revising the collection to include changes adopted by the cross-agency R&R working group. This working group established the original proposed collection of 4040-0001 in 2004. The form instructions will also be revised.

This collection will be utilized by up to 26 Federal grant-making agencies. The 4040-0001 collection expires on June 30, 2011. We are requesting a three-year clearance of this collection. The 4040-0001 proposed collection encompasses 14 forms.

There are four requested changes to the SF 424 (R&R) Application for Federal Assistance (Cover) and, there are four requested changes to the R&R Other Project Information form.

These changes to the instructions will increase data quality and clarity for the collection. Agencies will not be required to collect all of the information in the proposed data set. The agency will identify the data that must be provided by applicants through instructions that will accompany the application forms.

Estimated Annualized Burden Table for SF-424 R&R
Agency | Type of respondent | Number of annual respondents | Number of responses per respondent | Average burden on respondent per response in hours | Total burden hours
DHS | Grant Applicant | 173 | 1 | 60 | 10,380
DOC | Grant Applicant | 165 | 1 | 60 | 9,900
DOD | Grant Applicant | 17,943 | 1 | 60 | 1,076,580
DOE | Grant Applicant | 7,292 | 1 | 60 | 437,520
DOI | Grant Applicant | 41 | 1 | 60 | 2,460
DOT | Grant Applicant | 370 | 1 | 60 | 22,200
ED | Grant Applicant | 2,000 | 1 | 60 | 120,000
HHS | Grant Applicant | 62,133 | 1 | 60 | 3,727,980
NARA | Grant Applicant | 1 | 1 | 60 | 60
NASA | Grant Applicant | 102 | 1 | 60 | 6,120
NRC | Grant Applicant | 2 | 1 | 60 | 120
NSF | Grant Applicant | 1,001 | 1 | 60 | 60,060
USAID | Grant Applicant | 9 | 1 | 60 | 540
USDA | Grant Applicant | 6,349 | 1 | 60 | 380,940
Total |  | 97,581 |  |  | 5,854,860

Mary Forbes,
Paperwork Reduction Act Reports Clearance Officer, Office of the Secretary.

[FR Doc. 2011-10250 Filed 4-27-11; 8:45 am]

BILLING CODE 4151-AE-P